FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 19, 2004.

A. Federal Reserve Bank of Cleveland (Nadine W. Wallman, Assistant Vice President) 1455 East Sixth Street, Cleveland, Ohio 44101-2566:

Susan J. Neff, Robert D. Neff, Jennifer S. Markwell, Heather J.H. Neff, all of Morehead, Kentucky, and Ryan D. Neff, Lexington, Kentucky; to retain voting shares of Citizens Bancorp, Inc., Morehead, Kentucky, and thereby indirectly retain voting shares of Consumers National Bank, Morehead, Kentucky.

B. Federal Reserve Bank of Atlanta (Sue Costello, Vice President) 1000 Peachtree Street, N.E., Atlanta, Georgia 30303:

1. Old Post Road, L.P., Madison, Georgia; Floyd C. Newton, Jr., Madison, Georgia; Floyd C. Newton, III, Atlanta, Georgia; Godfrey H. Newton, Atlanta, Georgia; and Jennie S. Newton, Atlanta, Georgia; to acquire voting shares of Madison Bank Corporation, and thereby indirectly acquire voting shares of Bank of Madison, Madison, Georgia.

Board of Governors of the Federal Reserve System, April 29, 2004.
Robert deV. Frierson,
Deputy Secretary of the Board.

[FR Doc. 04-10155 Filed 5-4-04; 8:45 am]

BILLING CODE 6210-01-S